DEPARTMENT OF TRANSPORTATION

Federal Aviation Administration

14 CFR Part 39

[Docket No. FAA-2008-0119; Directorate Identifier 2007-NM-304-AD]

RIN 2120-AA64

Airworthiness Directives; Empresa Brasileira de Aeronautica S.A. (EMBRAER) Model ERJ 170 Airplanes and Model ERJ 190 Airplanes

AGENCY: Federal Aviation Administration (FAA), Department of Transportation (DOT).

ACTION: Notice of proposed rulemaking (NPRM).

SUMMARY: The FAA proposes to supersede an existing airworthiness directive (AD) that applies to all EMBRAER Model ERJ 170-100 LR, -100 SE, -100 STD, and -100 SU airplanes; and Model ERJ 190-100 IGW, -100 LR, and -100 STD airplanes. The existing AD currently requires revising the Limitations section of the airplane flight manual (AFM) to prohibit the flightcrew from moving the throttle into the forward thrust range immediately after applying the thrust reverser. This proposed AD would add additional airplanes to the applicability and would require the AFM revision for those additional airplanes. For certain airplanes, this proposed AD would also require installing new, improved full-authority digital engine-control (FADEC) software. This proposed AD results from a report that, during landing, the thrust reverser may not re-stow completely if the throttle lever is moved into the forward thrust range immediately after the thrust reverser is applied. We are proposing this AD to prevent the flightcrew from performing a takeoff with a partially deployed thrust reverser, which could result in reduced controllability of the airplane.

DATES: We must receive comments on this proposed AD by March 6, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Empresa Brasileira de Aeronautica S.A. (EMBRAER), P.O. Box 343—CEP 12.225, Sao Jose dos Campos—SP, Brazil.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2008-0119; Directorate Identifier 2007-NM-304-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 22, 2006, we issued AD 2006-11-15, amendment 39-14619 (71 FR 30577, May 30, 2006), for all Empresa Brasileira de Aeronautica S.A. (EMBRAER) Model ERJ 170-100 LR, -100 SE, -100 STD, and -100 SU airplanes; and Model ERJ 190-100 IGW, -100 LR, and -100 STD airplanes. That AD requires revising the Limitations section of the airplane flight manual (AFM) to prohibit the flightcrew from moving the throttle into the forward thrust range immediately after applying the thrust reverser. That AD resulted from a report that, during landing, the thrust reverser may not re-stow completely if the throttle lever is moved into the forward thrust range immediately after the thrust reverser is applied. We issued that AD to prevent the flightcrew from performing a takeoff with a partially deployed thrust reverser, which could result in reduced controllability of the airplane.

Actions Since Existing AD Was Issued

The preamble to AD 2006-11-15 explains that we consider the requirements “interim action” and were considering further rulemaking. We now have determined that further rulemaking is indeed necessary, and this proposed AD follows from that determination. The Agência Nacional de Aviação Civil (ANAC), which is the airworthiness authority for Brazil, has determined that new, improved full-authority digital engine-control (FADEC) software must be installed on certain airplanes to adequately address the unsafe condition.

Since we issued AD 2006-11-15, we have type certificated EMBRAER Model ERJ 170-200 LR, -200 STD, and -200 SU airplanes; and Model ERJ 190-200 IGW, -200 LR, and -200 STD airplanes for operation in the U.S. Therefore, the AFM revision required by AD 2006-11-15 should also apply to those additional airplanes.

Relevant Service Information

EMBRAER has issued the following service bulletins:

• EMBRAER Service Bulletin 170-73-0003, Revision 01, dated September 4, 2006, for Model ERJ 170-100 LR, -100 SE, -100 STD, -100 SU, -200 LR, -200 STD, and -200 SU airplanes;

• EMBRAER Service Bulletin 190-73-0005, dated November 9, 2006, for a Model ERJ 190-200 LR airplane; and

• EMBRAER Service Bulletin 190-73-0009, Revision 01, dated April 23, 2007, for Model ERJ 190-100 IGW, -100 LR, -100 STD, -200 IGW, -200 LR, and -200 STD airplanes.

The service bulletins describe procedures for installing new, improved FADEC software having a certain version or higher. Accomplishing the actions specified in the service information is intended to adequately address the unsafe condition. The ANAC mandated the service information and issued Brazilian airworthiness directive 2006-03-02R1, effective February 27, 2007; and Brazilian airworthiness directive 2006-03-03R1, effective November 9, 2007; to ensure the continued airworthiness of these airplanes in Brazil.

FAA's Determination and Requirements of the Proposed AD

These airplanes are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that AD action is necessary for airplanes of this type design that are certificated for operation in the United States.

This proposed AD would supersede AD 2006-11-15 and would retain the requirements of the existing AD. This proposed AD would also add Model ERJ 170-200 LR, -200 STD, and -200 SU airplanes; and Model ERJ 190-200 IGW, -200 LR, and -200 STD airplanes to the applicability and would require the AFM revision for those additional airplanes. This proposed AD would also require accomplishing the actions specified in the service information described previously.

Costs of Compliance

The following table provides the estimated costs, at an average labor rate of $80 per hour, for U.S. operators to comply with this proposed AD.

Estimated Costs
Action | Work hours | Parts | Cost per airplane | Number of U.S.- registered airplanes | Fleet cost
AFM revision (required by AD 2006-11-15) | 1 | None | $80 | 76 | $6,080
AFM revision (new proposed action) | 1 | None | 80 | 57 | 4,560
Software installation (new proposed action) | 1 | The manufacturer states that it will supply the required software to operators at no cost | 80 | 133 | 10,640

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14619 (71 FR 30577, May 30, 2006) and adding the following new airworthiness directive (AD):

Empresa Brasileira De Aeronautica S.A. (EMBRAER): Docket No. FAA-2008-0119; Directorate Identifier 2007-NM-304-AD.

Comments Due Date

(a) The FAA must receive comments on this AD action by March 6, 2008.

Affected ADs

(b) This AD supersedes AD 2006-11-15.

Applicability

(c) This AD applies to all EMBRAER Model ERJ 170-100 LR, -100 SE, -100 STD, -100 SU, -200 LR, -200 STD, and -200 SU airplanes; and Model ERJ 190-100 IGW, -100 LR, -100 STD, -200 IGW, -200 LR, and -200 STD airplanes; certificated in any category.

Unsafe Condition

(d) This AD results from report that, during landing, the thrust reverser may not re-stow completely if the throttle lever is moved into the forward thrust range immediately after the thrust reverser is applied. We are issuing this AD to prevent the flightcrew from performing a takeoff with a partially deployed thrust reverser, which could result in reduced controllability of the airplane.

Compliance

(e) You are responsible for having the actions required by this AD performed within the compliance times specified, unless the actions have already been done.

Restatement of Requirements of AD 2006-11-15

Airplane Flight Manual Revision

(f) For Model ERJ 170-100 LR, -100 SE, -100 STD, and -100 SU airplanes; and Model ERJ 190-100 IGW, -100 LR, -100 STD airplanes: Within 7 days after June 14, 2006 (the effective date of AD 2006-11-15), revise the Limitations section of the EMBRAER 170/190 Airplane Flight Manual (AFM) to include the following statement. This may be done by inserting a copy of this AD in the AFM. Factory-installation or installation of the applicable software required by paragraph (h) of this AD terminates the AFM revision required by this paragraph.

“After applying thrust reverser, do not move the throttle back to the forward thrust range, unless the REV icon on the EICAS is shown in amber or green.”

Note 1: When a statement identical to that in paragraph (f) of this AD has been included in the general revisions of the AFM, the general revisions may be inserted into the AFM, and the copy of this AD may be removed from the AFM.

New Requirements of This AD

AFM Revision for New Airplanes

(g) For Model ERJ 170-200 LR, -200 STD, and -200 SU airplanes; and Model ERJ 190-200 IGW, -200 LR, and -200 STD airplanes: Within 14 days after the effective date of this AD, revise the Limitations section of the EMBRAER 170/190 AFM to include the following statement. This may be done by inserting a copy of this AD in the AFM. Factory-installation or installation of the applicable software required by paragraph (h) of this AD terminates the AFM revision required by this paragraph.

“After applying thrust reverser, do not move the throttle back to the forward thrust range, unless the REV icon on the EICAS is shown in amber or green.”

Note 2: When a statement identical to that in paragraph (g) of this AD has been included in the general revisions of the AFM, the general revisions may be inserted into the AFM, and the copy of this AD may be removed from the AFM.

Software Installation

(h) Within 1,200 flight hours after the effective date of this AD, install the full-authority digital engine-control (FADEC) software specified in paragraph (h)(1), (h)(2), or (h)(3) of this AD, as applicable. Installing the applicable software terminates the applicable AFM revision required by paragraph (f) or (g) this AD.

(1) For Model ERJ 170-100 LR, -100 SE, -100 STD, -100 SU, -200 LR, -200 STD, and -200 SU airplanes identified in EMBRAER Service Bulletin 170-73-0003, Revision 01, dated September 4, 2006: Install engine FADEC software version 5.30 or higher in accordance with the service bulletin.

(2) For the Model ERJ 190-200 LR airplane identified in EMBRAER Service Bulletin 190-73-0005, dated November 9, 2006: Install engine FADEC software version 5.10 or higher in accordance with the service bulletin.

(3) For Model ERJ 190-100 IGW, -100 LR, -100 STD, -200 IGW, -200 LR, and -200 STD airplanes identified in EMBRAER Service Bulletin 190-73-0009, Revision 01, dated April 23, 2007: Install engine FADEC software version 5.20 or higher in accordance with the service bulletin.

Alternative Methods of Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) Brazilian airworthiness directive 2006-03-02R1, effective February 27, 2007; and Brazilian airworthiness directive 2006-03-03R1, effective November 9, 2007; also address the subject of this AD.

Issued in Renton, Washington, on January 24, 2008.
Ali Bahrami,
Manager, Transport Airplane Directorate, Aircraft Certification Service.

[FR Doc. E8-1990 Filed 2-4-08; 8:45 am]

BILLING CODE 4910-13-P